ENVIRONMENTAL PROTECTION AGENCY

[FRL-9763-5]

Farm, Ranch, and Rural Communities Committee

AGENCY: Environmental Protection Agency (EPA).

ACTION: Notice of meeting.

SUMMARY: Under the Federal Advisory Committee Act, Public Law 92-463, EPA gives notice of a teleconference meeting of the Farm, Ranch, and Rural Communities Committee (FRRCC). The FRRCC is a policy-oriented committee that provides policy advice, information, and recommendations to the EPA Administrator on a range of environmental issues and policies that are of importance to agriculture and rural communities.

The purpose of this teleconference is to discuss specific topics of relevance for consideration by the Committee in order to provide advice and insights to the Agency on environmental policies and programs that affect and engage agriculture and rural communities.

DATES: The Farm, Ranch, and Rural Communities Committee will hold a public teleconference on Thursday, January 17, 2013 from 2:00 p.m. until 4:00 p.m. Eastern Standard Time.

FOR FURTHER INFORMATION CONTACT: Alicia Kaiser, Designated Federal Officer, kaiser.alicia@epa.gov, 202-564-7273, US EPA, Office of the Administrator (1101A), 1200 Pennsylvania Avenue NW., Washington, DC 20460.

SUPPLEMENTARY INFORMATION: Members of the public wishing to gain access to the teleconference, make brief oral comments, or provide a written statement to the FRRCC must contact Alicia Kaiser, Designated Federal Officer, at kaiser.alicia@epa.gov or 202-564-7273 by January 4, 2013.

Meeting Access: For information on access or services for individuals with disabilities or to request accommodations please contact Alicia Kaiser at kaiser.alicia@epa.gov or 202-564-7273, preferably at least 10 days prior to the meeting, to give EPA as much time as possible to process your request.

Dated: December 7, 2012.
Alicia Kaiser,
Designated Federal Officer.

[FR Doc. 2012-30582 Filed 12-18-12; 8:45 am]

BILLING CODE 6560-50-P